DEPARTMENT OF ENERGY

Federal Energy Regulatory Commission

[Docket No. RP00-252-000]

Florida Gas Transmission Company; Notice of Proposed Changes in FERC Gas Tariff

April 25, 2000.

Take notice that on April 19, 2000, Florida Gas Transmission Company (FGT) tendered for filing to become part of its FERC Gas Tariff, Third Revised Volume No. 1, effective May 1, 1999, the following tariff sheets:

Thirty-Ninth Revised Sheet No. 8A

Thirty-First Revised Sheet No. 8A.01

Thirty-First Revised Sheet No. 8A.02

Thirty-Fifth Revised Sheet No. 8B

Twenty-Eighth Revised Sheet No. 8B.01

FGT states that on February 29, 2000, in Docket No. RP00-194-000, FGT filed to establish a Base Fuel Reimbursement Charge Percentage (“Base FRCP”) of 2.99% for the six-month Summer Period beginning April 1, 2000. The Base FRCP of 2.99% was accepted by Commission letter order issued March 23, 2000. In the instant filing, FGT is making a flex adjustment of 0.01% to be effective May 1, 2000, which results in an Effective Fuel Reimbursement Charge Percentage of 3.00% when combined with the Base FRCP of 2.99%. FGT states that it is making the instant filing at the request of customers who have stated that an FRCP of 3.00% will be easier to administer when arranging for supply and submitting their nominations.

FGT states that the tariff sheets listed above are being filed pursuant to Section 27A.2.b of the General Terms and Conditions of FGT's Tariff, which provides for flex adjustments to the Base FRCP. Pursuant to the terms of Section 27A.2.b, a flex adjustment shall become effective without prior FERC approval provided that such flex adjustment does not exceed 0.50% from the Base FRCP, is effective at the beginning of a month, is posted on FGT's EBB at least five working days prior to the nomination deadline, and is filed no more than sixty and at least seven days before the proposed effective date. The instant filing comports with these provisions and FGT has posted notice of the flex adjustment prior to the instant filing.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-10720 Filed 4-28-00; 8:45 am]

BILLING CODE 6717-01-M